ENVIRONMENTAL PROTECTION AGENCY

40 CFR Part 52

[IL196-2; MO 109-1109; FRL-6844-5]

Approval and Promulgation of Implementation Plans: Illinois and Missouri: Ozone

AGENCY: Environmental Protection Agency (EPA).

ACTION: Proposed rule; reopening of the public comment period.

SUMMARY: EPA is reopening the public comment period for a proposed rule published on April 17, 2000 (65 FR 20404). In the April 17, 2000 proposed rule, EPA proposed to approve the Illinois and Missouri 1-hour ozone attainment demonstration State Implementation Plans for the St. Louis moderate ozone nonattainment area. In the alternative, EPA proposed to disapprove the attainment demonstration if: Illinois and Missouri did not revise the attainment demonstration modeling and analyses to incorporate corrections to the 1999 base year emissions inventory and successfully demonstrate attainment of the 1-hour standard based on the revised modeling; Illinois or Missouri did not submit proposed regional oxides of nitrogen (NOX) emission control regulations for electric generating units (EGUs) by June 2000 and final adopted regional NOX emission control regulations for EGUs by December 2000; and, Missouri did not submit a proposed motor vehicle emissions budget by June 30, 2000. In the April 17, 2000 proposed rule, EPA also proposed to approve an exemption from NOX emission control requirements for reasonably available control technology (RACT) for the Illinois portion of the St. Louis ozone nonattainment area, to extend the ozone attainment date for the entire St. Louis ozone nonattainment area to November 15, 2003, and, to approve the transportation conformity motor vehicle emissions budget submitted by Illinois for the Illinois portion of the St. Louis ozone nonattainment area. Final approval of the extension of the ozone attainment date and the motor vehicle emission budgets are contingent on the final approval of the ozone attainment demonstration. Final approval of the attainment demonstration is contingent on the final approval of the regional NOX emission control regulations and on the submittal of adequate motor vehicle emissions budgets. Final approval of the NOX RACT exemption for Illinois is contingent on final approval of an attainment demonstration that does not rely on NOX emission reductions resulting from NOX RACT implementation in the Illinois portion the St. Louis ozone nonattainment area. In the April 17, 2000 proposed rule, EPA proposed to disapprove Illinois' request for an exemption from NOX requirements for New Source Review and general conformity. EPA received a request to extend the public comment period.

DATES: Comments must be received on or before August 14, 2000.

ADDRESSES: Written comments should be addressed to:

J. Elmer Bortzer, Chief, Regulation Development Section, Air Programs Branch (AR-18J), United States Environmental Protection Agency, 77 West Jackson Boulevard, Chicago, Illinois 60604; or,

Wayne Leidwanger, Chief, Air Planning and Development Branch, U.S. Environmental Protection Agency, 901 North 5th Street, Kansas City, Kansas, 66101.

Copies of the States' submittals and EPA's Technical Support Document, and other relevant materials, are available for public inspection during normal business hours at the following addresses:

United States Environmental Protection Agency, Region 5, Air and Radiation Division, 77 West Jackson Boulevard, Chicago, Illinois 60604 (please telephone Edward Doty at (312) 886-6057 before visiting the Region 5 office);

United States Protection Agency, Region 7, Air, Radiation, and Toxics Division, 901 North 5th Street, Kansas City, Kansas, 66101 (please telephone Aaron Worstell at (913) 551-7787 before visiting the Region 7 office).

FOR FURTHER INFORMATION CONTACT: Edward Doty, Regulation Development Section, Air Programs Branch (AR-18J), U.S. Environmental Protection Agency, Region 5, 77 West Jackson Boulevard, Chicago, Illinois 60604, Telephone Number (312) 886-6057, E-Mail Address: doty.edward@epamail.epa.gov; or, Aaron Worstell, Air Planning and Development Branch, U.S. Environmental Protection Agency, Region 7, 901 North 5th Street, Kansas City, Kansas 66101, Telephone Number (913) 551-7787, E-Mail Address: worstell.aaron@epa.gov.

Dated: July 24, 2000.
Francis X. Lyons,
Regional Administrator, Region 5.

[FR Doc. 00-19681 Filed 8-2-00; 8:45 am]

BILLING CODE 6560-50-P